DEPARTMENT OF THE INTERIOR

Bureau of Ocean Energy Management

[Docket No. BOEM-2018-0010]

Notice of Intent To Prepare an Environmental Impact Statement for Deepwater Wind South Fork, LLC's Proposed Wind Energy Facility Offshore Rhode Island and Massachusetts

AGENCY: Bureau of Ocean Energy Management, Interior.

ACTION: Notice of intent to prepare an Environmental Impact Statement.

SUMMARY: Consistent with the regulations implementing the National Environmental Policy Act (NEPA), the Bureau of Ocean Energy Management (BOEM) is announcing its intent to prepare an Environmental Impact Statement (EIS) for the review of a Construction and Operations Plan (COP) submitted by Deepwater Wind South Fork, LLC (DWSF) that would allow it to construct and operate up to 15 turbines, an electric service platform offshore Rhode Island and Massachusetts and an export cable to East Hampton, New York. This Notice of Intent (NOI) serves to announce the EIS scoping process for the DWSF COP. Detailed information about the proposed wind energy facility, including the COP, can be found on BOEM's website at: https://www.boem.gov/South-Fork/.

DATES: Comments should be submitted no later than November 19, 2018.

FOR FURTHER INFORMATION CONTACT: For information on the DWSF COP EIS, the submission of comments, or BOEM's policies associated with this notice, please contact Michelle Morin, BOEM Office of Renewable Energy Programs, 45600 Woodland Road, Sterling, Virginia 20166, (703) 787-1340 or michelle.morin@boem.gov.

SUPPLEMENTARY INFORMATION: Proposed Action: The proposed action is the construction and operation of a wind energy facility as described in the COP submitted by DWSF on Lease Area OCS-A 0486. In its COP, DWSF is proposing the construction and operation of up to 15 turbines, an electric service platform offshore Rhode Island and Massachusetts and an export cable to East Hampton, New York. Foundations would likely be monopiles, jackets, gravity-based foundations or a combination of these.

Once BOEM completes the EIS and associated consultations, BOEM will decide whether to approve, approve with modification, or disapprove the DWSF COP. If BOEM approves the COP and the proposed facility is constructed, the lessee must submit a plan to decommission the facilities before the end of the lease term.

Scoping Process: This NOI commences the public scoping process for identifying issues and potential alternatives for consideration in the DWSF COP EIS. Throughout the scoping process, Federal agencies, state, tribal, and local governments, and the general public have the opportunity to help BOEM determine significant resources and issues, impact-producing factors, reasonable alternatives (e.g., size, geographic, seasonal, or other restrictions on construction and siting of facilities and activities), and potential mitigation measures to be analyzed in the EIS, as well as provide additional information. BOEM will also use the NEPA commenting process to initiate the Section 106 consultation process under the National Historic Preservation Act (54 U.S.C. 300101 et seq.), as permitted by 36 CFR 800.2(d)(3). Through this notice, BOEM additionally intends to inform its Section 106 consultation by seeking public comment and input regarding the identification of historic properties or potential effects to historic properties from activities associated with approval of the DWSF COP.

Pursuant to the regulations implementing NEPA (42 U.S.C. 4321 et seq.), BOEM will hold public scoping meetings for the DWSF COP. BOEM's scoping meetings will be held at the following places and times:

• Amagansett, New York: Monday, November 5, 2018; American Legion Post 419, 15 Montauk Highway (across from Brent's), Amagansett, New York 11930; Open House 5:00-8:00 p.m.; Presentation and Q&A 6:00 p.m.

• New Bedford, Massachusetts: Wednesday, November 7, 2018; University of Massachusetts Dartmouth School for Marine Science and Technology East, 836 South Rodney French Boulevard, New Bedford, Massachusetts 02744; Open House 5:00-8:00 p.m.; Presentation and Q&A 6:00 p.m.

• Narragansett, Rhode Island: Thursday, November 8, 2018; Narragansett Community Center, 53 Mumford Road, Narragansett, Rhode Island 02882; Open House 5:00-8:00 p.m.; Presentation and Q&A 6:00 p.m.

Cooperating Agencies: BOEM invites other Federal agencies and state, tribal, and local governments to consider becoming cooperating agencies in the preparation of its EIS analyzing the proposed DWSF COP. According to Council on Environmental Quality (CEQ) guidelines, qualified agencies and governments are those with “jurisdiction by law or special expertise.” Potential cooperating agencies should consider their authority and capacity to assume the responsibilities of a cooperating agency, and should be aware that an agency's role in the environmental analysis neither enlarges nor diminishes the final decision-making authority of any other agency involved in the NEPA process. Upon request, BOEM will provide potential cooperating agencies with a written summary of expectations for cooperating agencies, including time schedules and critical action dates, milestones, responsibilities, scope and detail of cooperating agencies' contributions, and availability of pre-decisional information. BOEM anticipates this summary will form the basis for a Memorandum of Agreement between BOEM and any non-Interior Department cooperating agency. Agencies should also consider the “Factors for Determining Cooperating Agency Status” in Attachment 1 to CEQ's January 30, 2002, Memorandum for the Heads of Federal Agencies: Cooperating Agencies in Implementing the Procedural Requirements of the National Environmental Policy Act. This document is available on the internet at: http://energy.gov/sites/prod/files/nepapub/nepa_documents/RedDont/G-CEQ-CoopAgenciesImplem.pdf. BOEM, as the lead agency, will not provide financial assistance to cooperating agencies.

Even if a governmental entity is not a cooperating agency, it will have opportunities to provide information and comments to BOEM during the public input stages of the NEPA process.

Comments: Federal agencies, tribal, state, and local governments, and other interested parties are requested to comment on the scope of this EIS, significant issues that should be addressed, and alternatives that should be considered. Comments can be submitted in any of the following ways:

1. In written form, delivered by hand or by mail, enclosed in an envelope labeled, “Deepwater Wind South Fork COP EIS” and addressed to Program Manager, Office of Renewable Energy, Bureau of Ocean Energy Management, 45600 Woodland Road, Sterling, Virginia 20166. Comments must be received or postmarked no later than November 19, 2018; or

2. Through the regulations.gov web portal: Navigate to http://www.regulations.gov and search for Docket No. BOEM-2018-0010. Click on the “Comment Now!” button to the right of the document link. Enter your information and comment, then click “Submit.”

BOEM does not consider anonymous comments. Please include your name and address as part of your submittal. BOEM makes all comments, including the names and addresses of respondents, available for public review online and during regular business hours. Individual respondents may request that BOEM withhold their names or addresses from the public record; however, BOEM cannot guarantee that it will be able to do so. If you wish your name or address to be withheld, you must state your preference prominently at the beginning of your comment. All submissions from organizations or businesses and from individuals identifying themselves as representatives or officials of organizations or businesses will be made available for public inspection in their entirety.

Authority: This NOI is published pursuant to the regulations (40 CFR 1501.7) implementing the provisions of NEPA.

Dated: October 12, 2018.
William Yancey Brown,
Chief Environmental Officer, Bureau of Ocean Energy Management.

[FR Doc. 2018-22880 Filed 10-18-18; 8:45 am]

BILLING CODE 4310-MR-P